DEPARTMENT OF THE INTERIOR

Bureau of Land Management

[NM-070-04-1232-EA]

Temporary Closure and Restrictions on Use of Public Lands—Recreation Special Events: New Mexico, Farmington Field Office

AGENCY: Bureau of Land Management (BLM), Interior.

ACTION: Notice.

SUMMARY: The BLM, Farmington Field Office, announces the temporary closure of selected public lands under its administration in San Juan County. This action is taken to provide for public and participant safety and to protect adjacent natural and cultural resources during the conduct of permitted special recreation events.

The State Director, New Mexico State Office, announces the temporary closure of selected public lands under the BLM administration. This action is taken to provide for public and participant safety and to protect adjacent natural and cultural resources during the conduct of permitted special recreation events.

DATES: This order will become effective on June 7, 2004 and shall be in effect continuously for the next 2 years. At that time, this closure order shall be reviewed and a determination shall be made whether to reinstate, amend, modify, or change the order by similar notification. This closure order may be rescinded at anytime if in the judgment of the authorized officer it is not effective or not needed.

FOR FURTHER INFORMATION CONTACT: Richard Simmons, Outdoor Recreation Planner, Farmington Field Office, Bureau of Land Management, 1235 La Plata Hwy, Suite A, Farmington, New Mexico 87410, telephone number (505) 599-6345.

SUPPLEMENTARY INFORMATION: This notice applies to closures on and adjacent to permitted special events including but not limited to: motorized off-highway-vehicle (OHV) events, mountain-bike races, and horse-endurance competitive event sites and routes. Competitive events are conducted along dirt roads, trails, washes, and areas approved for such use through the Special Recreation Permit application process. Events occur throughout the year. Closure period is from 6 a.m. event day until the event finishes, or until the event has cleared between affected check point locations; approximately 2 to 48-hour periods. The general public will be advised of each event and closure specifics via local newspapers and radio ads within seven (7) to thirty (30) days prior to the running of an event. Event maps and information will be posted at the Farmington Field Office.

Locations most commonly used for permitted events include, but are not limited to:

1. Glade Recreation Area—San Juan Co.: T. 30-31 N., R. 12-13 W.

2. Alien Run Mountain Bike Trail—San Juan Co.: T. 31 N., R. 10 W.

3. The Rock Garden—San Juan Co.: T. 30-31 N., R. 9 W.

4. Pińon Mesa—San Juan Co.: T. 30 N., R. 13-14 W.

5. Navajo Lake Horse Trails—San Juan Co.: T. 30 N., R. 7-8 W.

6. The Dunes OHV Area—San Juan Co.: T. 29 N., R. 13 W.

7. Head Canyon Motocross Track—San Juan Co.: T. 30 N., R. 13 W.

8. Simon Canyon—San Juan Co.: T. 30-31 N., R. 8 W.

9. Angel Peak Recreation Area—San Juan Co.: T. 26-27 N., R. 10 W.

Marking and effect of closure: The BLM lands to be temporarily closed to public use include the width and length of those roads, trails, and routes identified as the route for the permitted event, identified by colored flagging, chalk arrows in the dirt, traffic cones, temporary barricades, and/or directional arrows attached to wooden stakes; vehicle closures for the public in vendor areas and spectator viewing areas, identified with colored ribbon and signs; camping closures, except in such areas designated for camping by the BLM, identified with signs and colored ribbon and/or barricades, gates, cones, and fences; vehicle speeds restricted within the closure area, identified with speed limit signs; alcoholic beverage closure, identified with signs at entrances to the event. The authorized applicants or their representatives are required to post warning signs, control access to, and clearly mark the event routes and area during closure periods.

Public uses generally affected by a Temporary Closure include: road and trail uses, camping, picnicking, alcoholic beverage consumption, parking, cross-country travel, and public-land exploration. Spectator and support vehicles may be driven in designated areas and routes only. Spectators may observe the races from specified locations as directed by event and agency officials.

This closure is an intermittent closure of event sites. Closures would only last for the period of the event. Most would only last one day, the maximum closure would last two days.

You may obtain a map and schedule of each closure area at the contact address.

Exceptions: Closure restrictions do not apply to permittees, their employees, competitors, medical/rescue, law enforcement, oil and gas industry employees doing day-to-day necessary service, and BLM personnel monitoring the event.

Penalty: Any person failing to comply with the closure orders may be subject to imprisonment for not more than 12 months, or a fine in accordance with the applicable provisions of 18 U.S.C. 3571, or both.

Authority: 43 CFR 8364.1 and 43 CFR part 2930.

Dated: March 31, 2004.
Linda S.C. Rundell,
State Director.

[FR Doc. 04-12752 Filed 6-4-04; 8:45 am]

BILLING CODE 1220-PM-P